DEPARTMENT OF THE INTERIOR

National Park Service

[NPS-WASO-NAGPRA-10891; 2200-1100-665]

Notice of Intent To Repatriate Cultural Items: San Diego State University, San Diego, CA

AGENCY: National Park Service, Interior.

ACTION: Notice.

SUMMARY: The San Diego State University Archaeology Collections Management Program, in consultation with the appropriate Indian tribe, has determined that the cultural items meet the definition of objects of cultural patrimony and repatriation to the Indian tribe stated below may occur if no additional claimants come forward. Representatives of any Indian tribe that believes itself to be culturally affiliated with the cultural items may contact San Diego State University Archaeology Collections Management Program.

DATES: Representatives of any Indian tribe that believes it has a cultural affiliation with the cultural items should contact San Diego State University Archaeology Collections Management Program at the address below by September 13, 2012.

ADDRESSES: Jaime Lennox, Interim Director, San Diego State University Archaeology Collections Management Program, 5500 Campanile Dr., San Diego, CA 92182-6040, telephone (619) 594-4575.

SUPPLEMENTARY INFORMATION: Notice is here given in accordance with the Native American Graves Protection and Repatriation Act (NAGPRA), 25 U.S.C. 3005, of the intent to repatriate cultural items in the possession of the San Diego State University Archaeology Collections Management Program, San Diego, CA, that meet the definition of objects of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

The 39 objects include one cradleboard and 38 baskets. In 1961, Awona Harrington, daughter of well-known ethnographer and linguist John P. Harrington, donated objects from her father's collection to the San Diego State University Archaeology Collections Management Program. This collection was accessioned as the Harrington Ethnographic Collection (SDSU-0461) and included objects gathered by Harrington throughout his career; including one cradleboard and 38 baskets. Subsequent analysis of diagnostic features has identified the objects as Yokut.

In consultation with representatives of the Santa Rosa Indian Community of the Santa Rosa Rancheria, California, these 39 items were determined to be culturally significant and meet the definition of objects of cultural patrimony under NAGPRA. The objects were examined on March 20, 2012, by representatives of the Santa Rosa Indian Community of the Santa Rosa Rancheria and a positive identification of diagnostic characteristics and utilitarian attributes of the objects was made. The representatives of the Santa Rosa Indian Community of the Santa Rosa Rancheria also provided supporting ethnographic documentation for the cultural significance of the objects.

Determinations Made by the San Diego State University

Officials of the San Diego State University Archaeology Collections Management Program have determined that:

• Pursuant to 25 U.S.C. 3001(3)(D), the 39 cultural items described above have ongoing historical, traditional, or cultural importance central to the Native American group or culture itself, rather than property owned by an individual.

• Pursuant to 25 U.S.C. 3001(2), there is a relationship of shared group identity that can be reasonably traced between the cradleboard and the baskets and the Santa Rosa Indian Community of the Santa Rosa Rancheria, California.

Additional Requestors and Disposition

Representatives of any other Indian tribe that believes itself to be culturally affiliated with the objects of cultural patrimony should contact Jaime Lennox, Interim Director, San Diego State University Archaeology Collections Management Program, 5500 Campanile Dr., San Diego, CA 92182-6040, telephone (619) 594-4575, before September 13, 2012. Repatriation of the objects of cultural patrimony to the Santa Rosa Indian Community of the Santa Rosa Rancheria, California, may proceed after that date if no additional claimants come forward.

The San Diego State University Collections Management Program is responsible for notifying the Santa Rosa Indian Community of the Santa Rosa Rancheria, California, that this notice has been published.

Dated: July 20, 2012.
Melanie O'Brien,
Acting Manager, National NAGPRA Program.

[FR Doc. 2012-19926 Filed 8-13-12; 8:45 am]

BILLING CODE 4312-50-P